ENVIRONMENTAL PROTECTION AGENCY

[EPA-R01-OW-2008-0215; FRL-8683-8]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the state waters of Salem Sound in the towns of Manchester-by-the-Sea, Beverly, Danvers, Salem, and Marblehead.

ADDRESSES: Docket: All documents in the docket are listed in the http://www.regulations.gov index. Although listed in the index, some information is not publicly available, e.g., CBI or other information whose disclosure is restricted by statute. Certain other material, such as copy-righted material, will be publicly available only in hard copy. Publicly available docket materials are available electronically in http://www.regulations.gov.

FOR FURTHER INFORMATION CONTACT: Ann Rodney, U.S. Environmental Protection Agency—New England Region, One Congress Street, Suite 1100, COP, Boston, MA 02114-2023. Telephone: (617) 918-0538. Fax number: (617) 918-1505. E-mail address: Rodney.ann@epa.gov.

SUPPLEMENTARY INFORMATION: On May 16, 2008, EPA published a notice that the Commonwealth of Massachusetts had petitioned the Regional Administrator, Environmental Protection Agency, to determine that adequate facilities for the safe and sanitary removal and treatment of sewage from all vessels are reasonably available for the state waters of Manchester-by-the-Sea, Beverly, Danvers, Salem, and Marblehead. No comments were received on this petition.

The petition was filed pursuant to section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the state waters of Manchester-by-the-Sea, Beverly, Danvers, Salem, and Marblehead, collectively referred to as Salem Sound. The NDA includes:

Waterbody/General Area | Latitude | Longitude
Southern Landward boundary—Marblehead town line | 42°28′43″ N | 70°52′45″ W
Southern Seaward Boundary— | 42°26′33″ N | 70°49′05″ W
Eastern Boundary—Halfway Rock | 42°30′10″ N | 70°46′30″ W
Northern Seaward boundary—3 miles off Eastern Point | 42°33′03″ N | 70°36′06″ W
Northern Landward boundary—Manchester town line | 42°34′20″ N | 70°42′52″ W

The NDA boundary includes the municipal waters of Manchester-by-the-Sea, Beverly, Danvers, Salem, and Marblehead and extends to the boundary between state and federal waters. This area includes Bakers Island, Crowninshield Island, Cat Island, Children's Island, Great and Little Misery Islands, and House Island.

The information submitted to EPA by the Commonwealth of Massachusetts certifies that there are eight pumpout facilities located in this area. A list of the facilities, with phone numbers, locations, and hours of operation is appended at the end of this determination.

Based on the examination of the petition, its supporting documentation, and information from site visits conducted by EPA New England staff, EPA has determined that adequate facilities for the safe and sanitary removal and treatment of sewage from all vessels are reasonably available for the area covered under this determination.

This determination is made pursuant to Section 312(f)(3) of Public Law 92-500, as amended by Public Laws 95-217 and 100-4.

Pumpout Facilities Within Proposed No Discharge Area
Name | Location | Contact info. | Hours | Mean low water depth
Manchester Marine | Manchester | (978) 526-7911 VHF 72 | Mon-Thus—7 a.m.-6p.m.; Fri-Sun (+holidays), 7 a.m.-8 p.m | 6 ft.
Manchester Marine | Manchester | (978) 526-7911, VHF 72 | Mon-Thus—7 a.m.-6; p.m. Fri-Sun (+holidays), 7 a.m.-8 p.m | N/A, Boat service.
Ferry Way Public Landing | Beverly | (978) 921-6059, VHF 9 | Fri-Sun (+holidays), 8 a.m.-4 p.m. | 10 ft.
Danversport Yacht Club | Danvers (2 facilities) | (978) 774-8644 | Mon-Thurs—8 a.m.-5 p.m.; Fri-Sat—8 a.m.-6 p.m.; Sun—8 a.m.-4 p.m | 6 ft.
Salem Waterfront (Winter Island) | Salem | (978) 741-0098 VHF 9 | Sat-Sun (+holidays), 9 a.m.-5 p.m. | N/A Boat service.
Congress St. Landing | Salem | (978) 741-0098, VHF 9 | 24 hours/7 days a week | 3 ft.
Ferry Lane—Harbormaster's office | Marblehead | (781) 631-2386, VHF 16 | Mon-Fri, 9 a.m.-3 p.m. | N/A, Boat Service.
Cliff Street Boatyard | Marblehead | (781) 631-2386, VHF 16 | 24 hours/7 days a week | 9 ft.
*Danvers | Danvers | TBD | TBD | N/A, Boat service.
*Salem | Salem | TBD | TBD | N/A, Boat service.
* = Pending facilities.

Dated: June 17, 2008.
Robert W. Varney,
Regional Administrator, Region 1.

[FR Doc. E8-14251 Filed 6-23-08; 8:45 a.m.]

BILLING CODE 6560-50-P